COMMITTEE FOR THE IMPLEMENTATION OF TEXTILE AGREEMENTS

Adjustment of Import Limits for Certain Cotton, Wool, Man-Made Fiber, Silk Blend and Other Vegetable Fiber Textiles and Textile Products Produced or Manufactured in the People's Republic of China

May 9, 2001.

AGENCY: Committee for the Implementation of Textile Agreements (CITA).

ACTION: Issuing a directive to the Commissioner of Customs adjusting limits.

EFFECTIVE DATE: May 16, 2001.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://www.otexa.ita.doc.gov.

SUPPLEMENTARY INFORMATION:

Authority: Section 204 of the Agricultural Act of 1956, as amended (7 U.S.C. 1854); Executive Order 11651 of March 3, 1972, as amended.

The current limits for certain categories are being adjusted for swing and carryover.

A description of the textile and apparel categories in terms of HTS numbers is available in the CORRELATION: Textile and Apparel Categories with the Harmonized Tariff Schedule of the United States (see Federal Register notice 65 FR 82328, published on December 28, 2000). Also see 65 FR 81846, published on December 27, 2000.

J. Hayden Boyd,
Acting Chairman, Committee for the Implementation of Textile Agreements.

Committee for the Implementation of Textile Agreements

May 9, 2001.

Commissioner of Customs,

Department of the Treasury, Washington, DC 20229.

Dear Commissioner: This directive amends, but does not cancel, the directive issued to you on December 20, 2000, by the Chairman, Committee for the Implementation of Textile Agreements. That directive concerns imports of certain cotton, wool, man-made fiber, silk blend and other vegetable fiber textiles and textile products, produced or manufactured in China and exported during the twelve-month period which began on January 1, 2001 and extends through December 31, 2001.

Effective on May 16, 2001, you are directed to adjust the limits for the following categories, as provided for under the terms of the current bilateral textile agreement between the Governments of the United States and the People's Republic of China:

Category | Adjusted twelve-month limit ¹
Group I
200, 218, 219, 226, 237, 239, 300/301, 313-315, 317/326, 331, 333-336, 338/339, 340-342, 345, 347/348, 350-352, 359-C ², 359-V ³, 360-363, 369-D ⁴, 369-H ⁵, 369-L ⁶, 410, 433-436, 438, 440, 442-444, 445/446, 447, 448, 607, 611, 613-615, 617, 631, 633-636, 638/639, 640-643, 644/844, 645/646, 647-652, 659-C ⁷, 659-H ⁸, 659-S ⁹, 666, 669-P ¹⁰, 670-L ¹¹, 831, 833, 835, 836, 840, 842 and 845-847, as a group | 1,506,349,283 square meters equivalent.
Sublevels in Group I
200 | 822,125 kilograms.
218 | 12,305,019 square meters.
219 | 2,730,144 square meters.
226 | 12,396,833 square meters.
237 | 2,294,269 dozen.
239 | 3,362,973 kilograms.
300/301 | 2,521,821 kilograms.
313 | 46,346,731 square meters.
314 | 55,300,038 square meters.
317/326 | 24,188,063 square meters of which not more than 4,685,451 square meters shall be in Category 326.
331 | 5,664,540 dozen pairs.
333 | 112,528 dozen.
334 | 352,429 dozen.
335 | 411,802 dozen.
336 | 195,516 dozen.
338/339 | 2,493,464 dozen of which not more than 1,878,956 dozen shall be in Categories 338-S/339-S ¹².
340 | 845,534 dozen of which not more than 422,766 dozen shall be in Category 340-Z ¹³.
341 | 732,648 dozen of which not more than 439,590 dozen shall be in Category 341-Y ¹⁴.
342 | 288,412 dozen.
345 | 136,026 dozen.
347/348 | 2,473,725 dozen.
350 | 191,468 dozen.
351 | 633,390 dozen.
352 | 1,778,321 dozen.
359-C | 694,231 kilograms.
359-V | 973,342 kilograms.
360 | 8,901,590 numbers of which not more than 5,958,254 numbers shall be in Category 360-P ¹⁵.
361 | 4,858,123 numbers.
362 | 7,918,078 numbers.
363 | 23,385,756 numbers.
369-D | 5,213,292 kilograms.
369-H | 5,679,550 kilograms.
369-L | 3,737,939 kilograms.
410 | 1,090,467 square meters of which not more than 874,128 square meters shall be in Category 410-A ¹⁶ and not more than 874,128 square meters shall be in Category 410-B ¹⁷.
433 | 22,534 dozen.
434 | 14,408 dozen.
435 | 25,970 dozen.
436 | 16,304 dozen.
438 | 27,997 dozen.
440 | 40,761 dozen of which not more than 23,290 dozen shall be in Category 440-M ¹⁸.
442 | 42,340 dozen.
443 | 136,789 numbers.
444 | 225,851 numbers.
445/446 | 303,053 dozen.
447 | 74,891 dozen.
448 | 24,076 dozen.
607 | 3,678,454 kilograms.
611 | 6,098,897 square meters.
613 | 8,629,934 square meters.
614 | 13,561,324 square meters.
615 | 28,232,212 square meters.
617 | 19,725,561 square meters.
631 | 1,476,877 dozen pairs.
633 | 63,257 dozen.
634 | 688,198 dozen.
635 | 725,929 dozen.
636 | 603,075 dozen.
638/639 | 2,610,113 dozen.
640 | 1,470,492 dozen.
641 | 1,392,987 dozen.
642 | 376,799 dozen.
643 | 559,790 numbers.
644/844 | 3,949,119 numbers.
645/646 | 869,802 dozen.
647 | 1,682,506 dozen.
648 | 1,202,140 dozen.
649 | 1,066,811 dozen.
650 | 129,628 dozen.
651 | 853,731 dozen of which not more than 150,305 dozen shall be in Category 651-B ¹⁹.
652 | 3,120,203 dozen.
659-C | 451,974 kilograms.
659-H | 3,149,199 kilograms.
659-S | 692,731 kilograms.
666 | 3,914,396 kilograms of which not more than 1,419,780 kilograms shall be in Category 666-C ²⁰.
669-P | 2,250,130 kilograms.
670-L | 17,908,622 kilograms.
831 | 658,470 dozen pairs.
833 | 33,469 dozen.
835 | 133,025 dozen.
836 | 313,659 dozen.
840 | 527,329 dozen.
842 | 302,173 dozen.
846 | 195,496 dozen.
847 | 1,349,229 dozen.
Group II
330, 332, 349, 353, 354, 359-O ²¹, 431, 432, 439, 459, 630, 632, 653, 654 and 659-O ²², as a group | 133,676,563 square meters equivalent.
Group III
201, 220, 222, 223, 224-V ²³, 224-O ²⁴, 225, 227, 229, 369-O ²⁵, 400, 414, 464, 465, 469, 600, 603, 604-O ²⁶, 606, 618-622, 624-629, 665, 669-O ²⁷ and 670-O ²⁸, as a group | 277,291,547 square meters equivalent.
Sublevel in Group III
224-V | 4,030,871 square meters.
225 | 6,954,022 square meters.
Group IV
832, 834, 838, 839, 843, 850-852, 858 and 859, as a group | 13,203,073 square meters equivalent.
Levels not in a Group
369-S ²⁹ | 659,424 kilograms.
863-S ³⁰ | 9,360,847 numbers.
870 | 35,278,620 kilograms.

¹ The limit has not been adjusted to account for any imports exported after December 31, 2000.
² Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010.
³ Category 359-V: only HTS numbers 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070.
⁴ Category 369-D: only HTS numbers 6302.60.0010, 6302.91.0005 and 6302.91.0045.
⁵ Category 369-H: only HTS numbers 4202.22.4020, 4202.22.4500 and 4202.22.8030.
⁶ Category 369-L: only HTS numbers 4202.12.4000, 4202.12.8020, 4202.12.8060, 4202.92.1500, 4202.92.3016, 4202.92.6091 and 6307.90.9905.
⁷ Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁸ Category 659-H: only HTS numbers 6502.00.9030, 6504.00.9015, 6504.00.9060, 6505.90.5090, 6505.90.6090, 6505.90.7090 and 6505.90.8090.
⁹ Category 659-S: only HTS numbers 6112.31.0010, 6112.31.0020, 6112.41.0010, 6112.41.0020, 6112.41.0030, 6112.41.0040, 6211.11.1010, 6211.11.1020, 6211.12.1010 and 6211.12.1020.
¹⁰ Category 669-P: only HTS numbers 6305.32.0010, 6305.32.0020, 6305.33.0010, 6305.33.0020 and 6305.39.0000.
¹¹ Category 670-L: only HTS numbers 4202.12.8030, 4202.12.8070, 4202.92.3020, 4202.92.3031, 4202.92.9026 and 6307.90.9907.
¹² Category 338-S: all HTS numbers except 6109.10.0012, 6109.10.0014, 6109.10.0018 and 6109.10.0023; Category 339-S: all HTS numbers except 6109.10.0040, 6109.10.0045, 6109.10.0060 and 6109.10.0065.
¹³ Category 340-Z: only HTS numbers 6205.20.2015, 6205.20.2020, 6205.20.2050 and 6205.20.2060.
¹⁴ Category 341-Y: only HTS numbers 6204.22.3060, 6206.30.3010, 6206.30.3030 and 6211.42.0054.
¹⁵ Category 360-P: only HTS numbers 6302.21.3010, 6302.21.5010, 6302.21.7010, 6302.21.9010, 6302.31.3010, 6302.31.5010, 6302.31.7010 and 6302.31.9010.
¹⁶ Category 410-A: only HTS numbers 5111.11.3000, 5111.11.7030, 5111.11.7060, 5111.19.2000, 5111.19.6020, 5111.19.6040, 5111.19.6060, 5111.19.6080, 5111.20.9000, 5111.30.9000, 5111.90.3000, 5111.90.9000, 5212.11.1010, 5212.12.1010, 5212.13.1010, 5212.14.1010, 5212.15.1010, 5212.21.1010, 5212.22.1010, 5212.23.1010, 5212.24.1010, 5212.25.1010, 5311.00.2000, 5407.91.0510, 5407.92.0510, 5407.93.0510, 5407.94.0510, 5408.31.0510, 5408.32.0510, 5408.33.0510, 5408.34.0510, 5515.13.0510, 5515.22.0510, 5515.92.0510, 5516.31.0510, 5516.32.0510, 5516.33.0510, 5516.34.0510 and 6301.20.0020.
¹⁷ Category 410-B: only HTS numbers 5007.10.6030, 5007.90.6030, 5112.11.3030, 5112.11.3060, 5112.11.6030, 5112.11.6060, 5112.19.6010, 5112.19.6020, 5112.19.6030, 5112.19.6040, 5112.19.6050, 5112.19.6060, 5112.19.9510, 5112.19.9520, 5112.19.9530, 5112.19.9540, 5112.19.9550, 5112.19.9560, 5112.20.3000, 5112.30.3000, 5112.90.3000, 5112.90.9010, 5112.90.9090, 5212.11.1020, 5212.12.1020, 5212.13.1020, 5212.14.1020, 5212.15.1020, 5212.21.1020, 5212.22.1020, 5212.23.1020, 5212.24.1020, 5212.25.1020, 5309.21.2000, 5309.29.2000, 5407.91.0520, 5407.92.0520, 5407.93.0520, 5407.94.0520, 5408.31.0520, 5408.32.0520, 5408.33.0520, 5408.34.0520, 5515.13.0520, 5515.22.0520, 5515.92.0520, 5516.31.0520, 5516.32.0520, 5516.33.0520 and 5516.34.0520.
¹⁸ Category 440-M: Only HTS numbers 6203.21.0030, 6203.23.0030, 6205.10.1000, 6205.10.2010, 6205.10.2020, 6205.30.1510, 6205.30.1520, 6205.90.3020, 6205.90.4020 and 6211.31.0030.
¹⁹ Category 651-B: only HTS numbers 6107.22.0015 and 6108.32.0015.
²⁰ Category 666-C: only HTS numbers 6303.92.2010 and 6303.92.2020.
²¹ Category 359-O: all HTS numbers except 6103.42.2025, 6103.49.8034, 6104.62.1020, 6104.69.8010, 6114.20.0048, 6114.20.0052, 6203.42.2010, 6203.42.2090, 6204.62.2010, 6211.32.0010, 6211.32.0025, 6211.42.0010 (Category 359-C); 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070 (Category 359-V).
²² Category 659-O: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017, 6211.43.0010 (Category 659-C); 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010 and 6211.12.1020 (Category 659-S).
²³ Category 224-V: only HTS numbers 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36.0020.
²⁴ Category 224-O: all HTS numbers except 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36.0020 (Category 224-V).
²⁵ Category 369-O: all HTS numbers except 6302.60.0010, 6302.91.0005 and 6302.91.0045 (Category 369-D); 4202.22.4020, 4202.22.4500, 4202.22.8030 (Category 369-H); 4202.12.4000, 4202.12.8020, 4202.12.8060, 4202.92.1500, 4202.92.3016, 4202.92.6091 and 6307.90.9905 (Category 369-L); and 6307.10.2005 (Category 369-S)
²⁶ Category 604-O: all HTS numbers except 5509.32.0000 (Category 604-A).
²⁷ Category 669-O: all HTS numbers except 6305.32.0010, 6305.32.0020, 6305.33.0010, 6305.33.0020 and 6305.39.0000 (Category 669-P).
²⁸ Category 670-O: only HTS numbers 4202.22.4030, 4202.22.8050 and 4202.32.9550.
²⁹ Category 369-S: only HTS number 6307.10.2005.
³⁰ Category 863-S: only HTS number 6307.10.2015.

The Committee for the Implementation of Textile Agreements has determined that these actions fall within the foreign affairs exception to the rulemaking provisions of 5 U.S.C. 553(a)(1).

Sincerely,

J. Hayden Boyd,

Acting Chairman, Committee for the Implementation of Textile Agreements.

[FR Doc. 01-12060 Filed 5-11-01; 8:45 am]

BILLING CODE 3510-DR-F